ENVIRONMENTAL PROTECTION AGENCY

[FRL-8283-2]

Proposed Settlement Agreement, Clean Air Act Citizen Suit

AGENCY: Environmental Protection Agency (EPA).

ACTION: Notice of proposed settlement agreement; request for public comment.

SUMMARY: In accordance with section 113(g) of the Clean Air Act, as amended (“Act”), 42 U.S.C. 7413(g), notice is hereby given of a proposed settlement agreement, to address a lawsuit filed by the Center for Biological Diversity, Preston Forsythe and Hilary Lambert (collectively “Plaintiffs”): Center for Biological Diversity et al. v. Johnson, No. 06-1350 (D. D.C.). On July 31, 2006, Plaintiffs filed a complaint alleging that EPA had a mandatory duty under 42 U.S.C. 7661(b)(2), to respond within 60 days to Plaintiffs Title V petition requesting that EPA object to the proposed Tennessee Valley Authority's (“TVA”) Paradise Fossil Plant Title V Operating Permit (“TVA Paradise Title V Operating Permit”). The complaint also alleges that EPA had a mandatory duty under 42 U.S.C. 7661(b)(3) and (c) and 40 CFR 71.4(e) to modify, terminate, or revoke, or issue or deny, the proposed TVA Paradise Title V Operating permit and that EPA has unreasonably delayed modifying, terminating, or revoking, or issuing or denying, the permit. The complaint also alleges that EPA has unreasonably delayed responding to the Plaintiffs' petition for rulemaking requesting, pursuant to 5 U.S.C. 553(a), that EPA promulgate a rule to amend the Kentucky State Implementation Plan to fully incorporate the credible evidence rule. Under the terms of the proposed settlement agreement, EPA shall by May 25, 2007, take final action to grant or deny Plaintiffs' April 2005 petition for rulemaking. The proposed settlement agreement also provides that EPA shall conclude a completeness determination within 60 days after receipt of TVA's forthcoming Title V federal operating permit application for the Paradise Plant. Within 18 months after determining the application is complete, EPA shall take final action to issue the permit.

DATES: Written comments on the proposed settlement agreement must be received by April 4, 2007.

ADDRESSES: Submit your comments, identified by Docket ID number EPA-HQ-OGC-2007-0190, online at http://www.regulations.gov (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room 3334, 1301 Constitution Ave., NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Apple Chapman, Air and Radiation Law Office (2344A), Office of General Counsel, U.S. Environmental Protection Agency, 1200 Pennsylvania Ave., NW., Washington, DC 20460; telephone: (202) 564-5666; fax number (202) 564-5603; e-mail address: chapman.apple@epa.gov.

SUPPLEMENTARY INFORMATION:

I. Additional Information About the Proposed Settlement

On February 18, 2005, EPA formally objected to the issuance of the proposed TVA Paradise's Title V Operating Permit submitted by the Kentucky Division of Air Quality (“KDAQ”). On April 21, 2005, Plaintiffs filed a petition requesting that EPA object to the proposed TVA Paradise Title V Operating Permit and a petition for rulemaking requesting that EPA amend the Kentucky State Implementation Plant to fully incorporate the credible evidence rule. On August 18, 2006, KDAQ withdrew the proposed TVA Paradise Title V Operating Permit. Subsequently, EPA initiated a Part 71 permit process for the TVA Paradise Plant and on December 14, 2006, EPA published notice in the Federal Register denying Plaintiffs' Title V petition. EPA has filed a motion to dismiss Plaintiffs' Complaint.

The settlement agreement, which is subject to CAA section 113(g), provides that by May 25, 2007, EPA shall take final action to grant or deny Plaintiffs' petition for rulemaking. The agreement also provides that within 60 days after receipt of TVA's forthcoming permit application to EPA for a Title V permit for the Paradise Plant, EPA shall conclude a completeness determination. Within 18 months after determining the application is complete, EPA shall take final action to issue the permit. Should KDAQ submit a new proposed CAA Title V Operating Permit for the TVA Paradise Plant that EPA determines adequately addresses the issues raised by EPA in its February 18, 2006 objections, EPA must notify Plaintiff's counsel with written notice that the commitments with regard to the Title V Federal Operating Permit for the TVA Paradise Plant are null and void. Within 20 days after EPA has fulfilled the above obligations or after agreement becomes null and void, Plaintiffs shall file a motion to dismiss with prejudice.

For a period of thirty (30) days following the date of publication of this notice, the Agency will receive written comments relating to the proposed settlement agreement from persons who were not named as parties or intervenors to the litigation in question. EPA or the Department of Justice may withdraw or withhold consent to the proposed settlement agreement if the comments disclose facts or considerations that indicate that such consent is inappropriate, improper, inadequate, or inconsistent with the requirements of the Act. Unless EPA or the Department of Justice determines, based on any comment which may be submitted, that consent to the settlement agreement should be withdrawn, the terms of the agreement will be affirmed.

II. Additional Information About Commenting on the Proposed Settlement

A. How Can I Get a Copy of the Settlement?

Direct your comments to the official public docket for this action under Docket ID No. EPA-HQ-OGC-2007-0190 which contains a copy of the settlement. The official public docket is available for public viewing at the Office of Environmental Information (OEI) Docket in the EPA Docket Center, EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through www.regulations.gov. You may use the www.regulations.gov to submit or view public comments, access the index listing of the contents of the official public docket, and to access those documents in the public docket that are available electronically. Once in the system, select “search,” then key in the appropriate docket identification number.

It is important to note that EPA's policy is that public comments, whether submitted electronically or in paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and To Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov Web site to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through www.regulations.gov, your e-mail address is automatically captured and included as part of the comment that is placed in the official public docket, and made available in EPA's electronic public docket.

Dated: February 27, 2007.
Richard B. Ossias,
Associate General Counsel.

[FR Doc. E7-3759 Filed 3-2-07; 8:45 am]

BILLING CODE 6560-50-P